DEPARTMENT OF ENERGY

[OE Docket No. PP-441]

Application for Presidential Permit; Clean Power Northeast Development Inc.

AGENCY: Office of Electricity Delivery and Energy Reliability, DOE.

ACTION: Notice of Application.

SUMMARY: Clean Power Northeast Development Inc. (CPNE) has applied for a Presidential permit to construct, operate, maintain, and connect an electric transmission line across the United States border with Canada.

DATES: Comments or motions to intervene must be submitted on or before January 3, 2018.

ADDRESSES: Comments or motions to intervene should be addressed as follows: Office of Electricity Delivery and Energy Reliability (OE-20), U.S. Department of Energy, 1000 Independence Avenue SW., Washington, DC 20585.

FOR FURTHER INFORMATION CONTACT: Christopher Lawrence (Program Office) at 202-586-5260 or via electronic mail at Christopher.Lawrence@hq.doe.gov; Rishi Garg (Program Attorney) at 202-586-0258.

SUPPLEMENTARY INFORMATION: The construction, operation, maintenance, and connection of facilities at the international border of the United States for the transmission of electric energy between the United States and a foreign country is prohibited in the absence of a Presidential permit issued pursuant to Executive Order (EO) 10485, as amended by EO 12038.

On September 28, 2017, CPNE filed an application with the Office of Electricity Delivery and Energy Reliability of the Department of Energy (DOE) for a Presidential permit for the Atlantic Link Project (Atlantic Link). CPNE is an indirectly wholly owned subsidiary of Emera Inc. CPNE is a development company headquartered and operating in Boston, Massachusetts. Emera Inc., headquartered in Halifax, Nova Scotia, Canada, is an energy company operating in the United States, Canada, and four Caribbean countries.

CNPE proposes to construct, operate, maintain and connect a subsea, 1000 megawatt, high voltage direct current (HVDC) transmission cable system to deliver electricity from Atlantic Canada to Massachusetts. The final transmission cable system route is anticipated to be located within rights-of-way (ROW) selected from two current route alternatives, and would connect Coleson Cove, New Brunswick, Canada to Plymouth, Massachusetts for a total length of approximately 375 miles, depending on which route alternative is selected. Over 99 percent of the route would be subsea. A majority of the total transmission cable system route would be located in United States federal waters; however, short sections of the route would traverse Massachusetts state waters for a total of approximately 20 to 34 miles, depending on which route alternative is selected. The total length of the submarine transmission cable system route in U.S. federal waters (i.e., areas exclusive of Massachusetts state waters) would be approximately 230 miles depending on which route is selected.

Since the restructuring of the electric industry began, resulting in the introduction of different types of competitive entities into the marketplace, DOE has consistently expressed its policy that cross-border trade in electric energy should be subject to the same principles of comparable open access and non-discrimination that apply to transmission in interstate commerce. DOE has stated that policy in export authorizations granted to entities requesting authority to export over international transmission facilities. Specifically, DOE expects transmitting utilities owning border facilities to provide access across the border in accordance with the principles of comparable open access and non-discrimination contained in the Federal Power Act and articulated in Federal Energy Regulatory Commission (FERC) Order No. 888, (Promoting Wholesale Competition Through Open Access Non-Discriminatory Transmission Services by Public Utilities), 61 FR 21,540 (May 10, 1996), as amended.

Procedural Matters: Any person may comment on this application by filing such comment at the address provided above. Any person seeking to become a party to this proceeding must file a motion to intervene at the address provided above in accordance with Rule 214 of FERC's Rules of Practice and Procedure (18 CFR 385.214). Two copies of each comment or motion to intervene should be filed with DOE on or before the date listed above.

Additional copies of such motions to intervene also should be filed directly with: Dan Muldoon, P. Eng, President, Clean Power Northeast Development Inc., 101 Federal Street Suite 1101, Boston, MA 02110, Dan.Muldoon@Emera.com AND Gerald Weseen, Vice President, Clean Power Northeast Development Inc., 101 Federal Street Suite 1101, Boston, MA 02110, Gerald.Weseen@Emera.com.

Before a Presidential permit may be issued or amended, DOE must determine that the proposed action is in the public interest. In making that determination, DOE may consider the environmental impacts of the proposed project pursuant to the National Environmental Policy Act of 1969, the project's impact on electric reliability by ascertaining whether the proposed project would adversely affect the operation of the U.S. electric power supply system under normal and contingency conditions, and any other factors that DOE may also deem relevant to the public interest. Also, DOE must obtain the concurrences of the Secretary of State and the Secretary of Defense before taking final action on a Presidential permit application.

Copies of this application will be made available, upon request, for public inspection and copying at the address provided above, by accessing the program Web site at http://energy.gov/oe/services/electricity-policy-coordination-and-implementation/international-electricity-regulatio-2.

Issued in Washington, DC, on November 28, 2017.
Christopher A. Lawrence,
Electricity Policy Analyst, National Electricity Delivery Division, Office of Electricity Delivery and Energy Reliability.

[FR Doc. 2017-26052 Filed 12-1-17; 8:45 am]

BILLING CODE 6450-01-P